DEPARTMENT OF THE INTERIOR

Bureau of Land Management

[LLCOS05000 L16100000.DP0000]

Notice of Availability of the Draft Resource Management Plan and Draft Environmental Impact Statement for the Uncompahgre Field Office, Colorado

AGENCY: Bureau of Land Management, Interior.

ACTION: Notice.

SUMMARY: In accordance with the National Environmental Policy Act of 1969, as amended, and the Federal Land Policy and Management Act of 1976, as amended, the Bureau of Land Management (BLM) has prepared a Draft Resource Management Plan (RMP) and Draft Environmental Impact Statement (EIS) for the Uncompahgre Planning Area and by this notice is announcing the opening of the public comment period.

DATES: To ensure that comments will be considered, the BLM must receive written comments on the Draft RMP/EIS within 90 days following the date the Environmental Protection Agency publishes this notice of the Draft RMP/EIS in the Federal Register. The BLM will announce future meetings or hearings and any other public participation activities at least 15 days in advance through public notices, media releases, and/or mailings.

ADDRESSES: You may submit comments related to the Uncompahgre Draft RMP/EIS by any of the following methods:

• Email: uformp@blm.gov.

• Mail: Uncompahgre RMP, 2465 South Townsend Avenue, Montrose, CO 81401.

• Fax: 970-240-5368.

Copies of the Uncompahgre Draft RMP/EIS are available in the Uncompahgre Field Office at the above address or on the RMP Web site at: http://www.blm.gov/co/st/en/fo/ufo/uncompahgre_rmp.htm; or at: www.uformp.com.

FOR FURTHER INFORMATION CONTACT: Gina Jones, Southwest District NEPA Coordinator; telephone 970-240-5300; see above for address and email. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM prepared the Uncompahgre Draft RMP/EIS to evaluate and revise the management strategy for resources, resource uses, and special designations within the Uncompahgre planning area. Existing management decisions for public lands and resources in the Uncompahgre planning area are described in two documents: the 1985 San Juan/San Miguel RMP, as amended; and the 1989 Uncompahgre Basin RMP, as amended.

The Uncompahgre planning area includes approximately 3.1 million acres of land managed by the BLM, U.S. Forest Service (portions of the Grand Mesa, Uncompahgre and Gunnison National Forest), National Park Service (Black Canyon of the Gunnison National Park, and portions of Curecanti National Recreation Area), U.S. Bureau of Reclamation, State of Colorado (including Ridgway, Crawford, and Paonia State Parks), and local and private lands all of which are located in southwestern Colorado, in Montrose, Delta, Gunnison, Ouray, San Miguel and Mesa counties. The Gunnison Gorge National Conservation Area (NCA) and the Dominguez-Escalante NCA are not within the planning area for this Draft RMP/EIS. The Uncompahgre RMP will determine management for approximately 675,800 acres of BLM-administered surface lands and for approximately 971,220 acres of Federal mineral estate.

The formal public scoping process for the Uncompahgre RMP began February 25, 2010, with the publication of a Notice of Intent in the Federal Register (75 FR 8739). The BLM held seven scoping open houses in January and February 2010. The BLM used public scoping comments to help identify planning issues that led to the formulation of alternatives and framed the scope of analysis in the Draft RMP/EIS. The BLM also used the scoping process to introduce the public to the preliminary planning criteria, which set limits on the scope of the Draft RMP/EIS.

Major issues considered in the Draft RMP/EIS include management of biological resources including special status species, renewable and non-renewable energy, minerals, human activities and uses including livestock and recreation, utility/energy corridors and rights-of-way (ROW), and cultural resources. The RMP also addresses decisions regarding Wild and Scenic Rivers, the Old Spanish National Historic Trail, and lands with wilderness characteristics. The Draft RMP/EIS evaluates in detail the No Action Alternative (Alternative A), three action alternatives (Alternatives B, C and D), and sub-alternative (B.1). The BLM identified Alternative D as the Preferred Alternative. This alternative, however, does not represent the final agency direction, and the Proposed RMP may reflect changes or adjustments based on information received during public comment on the Draft RMP/EIS, new information, or changes in the BLM policies or priorities. The Proposed RMP may include objectives and actions described in any of the alternatives analyzed in the Draft.

Alternative A retains the current management goals, objectives, and direction specified in the 1985 San Juan/San Miguel RMP and the 1989 Uncompahgre Basin RMP. Alternative B emphasizes improving, rehabilitating and restoring resources; sustaining the ecological integrity of habitats for all priority plant, wildlife and fish species; and allowing appropriate development scenarios for allowable uses (such as mineral leasing, locatable mineral development, recreation, communication sites and livestock grazing). Alternative B.1 is a subset of Alternative B, and specifically addresses oil and gas leasing and development in the North Fork and Smith Fork drainages of the Gunnison River. Certain areas would be closed to oil and gas leasing and this alternative would impose development setbacks with strict surface use restrictions in places where leasing might be allowed to occur. Alternative C emphasizes the appropriate mix of uses that maximize utilization of resources while protecting land health. The appropriate development scenarios for allowable uses emphasize maximizing resource production in an environmentally responsible manner, while maintaining the basic protection needed to sustain resources, including mitigating impacts on land health. Alternative D emphasizes balancing resources and resource use among competing human interests, land uses, and the conservation of natural and cultural resource values, while sustaining and enhancing ecological integrity across the landscape, including plant, wildlife, and fish habitat. This alternative incorporates a balanced level of protection, restoration, enhancement and use of resources and services to meet ongoing programs and land uses.

Pursuant to 43 CFR 3461.2-1(a)(2), this notice announces a concurrent public comment period on the application of unsuitability criteria to lands with coal development potential. Maps and other information describing the results of the application of unsuitability criteria are available at the BLM Uncompahgre Field Office.

The Uncompahgre planning area has all or portions of five Wilderness Study Areas (Needle Rock, Adobe Badlands, Camel Back, Sewemup Mesa, Dolores River Canyons), as well as the congressionally designated Tabeguache Area. This RMP analyses seven areas identified as lands with wilderness characteristics. Also, this RMP analyzes eligible water segments for recommendation for inclusion in the National Wild and Scenic River System.

Pursuant to 43 CFR 1610.7-2(b), this notice announces a concurrent public comment period on the proposed Areas of Critical Environmental Concern (ACEC). The BLM analyzed 19 potential ACECs meeting the relevance and importance criteria within the range of alternatives. The alternative where each ACEC is considered, as well as the largest size and most restrictive limitations under consideration for each potential ACEC within the range of alternatives are as follows:

• Adobe Badlands ACEC, 6,370 acres, Alternatives A, C, D: ROW avoidance; close to coal leasing; recommend for withdrawal from locatable mineral entry; close to mineral materials disposal; close to non-energy solid mineral leasing; close to motorized and mechanized travel; Visual Resource Management (VRM) Class I; close to major utility development; manage for day use only; prohibit camping and campfires; No Surface Occupancy (NSO) for fluid minerals; Site Specific Relocation (SSR) for non-fluid mineral activities.

• Fairview South ACEC, up to 4,250 acres, Alternatives A, B, C, D: ROW exclusion; recommend for withdrawal from locatable mineral entry; close to mineral materials disposal; close to non-energy solid mineral leasing; close to motorized and mechanized travel; designated trail systems for non-motorized and non-mechanized travel; VRM Class III; close to sheep and cattle grazing; day use only; prohibit camping and campfires; prohibit wood collecting; close to wood product sales and/or harvest; NSO for fluid minerals; No Ground Disturbance (NGD) for non-fluid mineral activities.

• Needle Rock ACEC, 80 acres, Alternatives A, B, C, D: ROW exclusion; recommend for withdrawal from locatable mineral entry; close to mineral materials disposal; close to non-energy solid mineral leasing; close to livestock grazing; limit motorized and mechanized travel to designated routes; VRM Class I; day use only; prohibit camping, prohibit open campfires (require use of stoves or grills); prohibit wood collecting; close to wood product sales and/or harvest; prohibit rock climbing; provide adequate protection (signing, stipulations, barricades and fences) to protect sensitive species and their habitats; NSO for fluid minerals; SSR for non-fluid mineral activities.

• San Miguel River ACEC, up to 35,480 acres, Alternatives A, B, C, D: ROW exclusion; recommend for withdrawal from locatable mineral entry; close to mineral materials disposal; close to non-energy solid mineral leasing; close to coal leasing; VRM Class II and III; close to wood product sales and/or harvest; allow on-site collection of dead and downed wood for campfires (fire pans required); close to livestock grazing; limit camping to designated sites and areas; limit camping to no longer than 7 consecutive days at any one location and prohibit return to that location for 30 days; prohibit target shooting; close to recreational mining; limit motorized and mechanized travel to designated routes; locate facility development outside the 100-year floodplain; prohibit BLM-permitted actions (such as ROWs, bike trails and camping areas) in relic riparian communities; close to fluid mineral leasing and geophysical exploration; provide informational and interpretive signs; designated trail systems, restrooms, barricades and fences, as needed for enhanced visitor use, enjoyment, and safety and to protect sensitive species and their habitats.

• Coyote Wash ACEC, 2,100 acres, Alternative B: ROW exclusion; recommend for withdrawal from locatable mineral entry; close to mineral materials disposal; close to non-energy solid mineral leasing; VRM Class II; NSO for fluid minerals; NGD for non-fluid mineral activities; provide facilities (e.g., informational and interpretive signs, designated trail systems, camping areas, restrooms, barricades and fences) for resource protection.

• Dolores River Slickrock Canyon ACEC, up to 10,670 acres, Alternatives B, D: ROW exclusion; recommend for withdrawal from locatable mineral entry; close to mineral materials disposal; close to non-energy solid mineral leasing; VRM Class II; close to recreational mining; close to motorized and mechanized travel; provide facilities (informational/interpretive signs, designated trail systems, camping areas, restrooms, barricades, fences) as needed for resource protection; camping only in designated sites and areas, prohibit open campfires (fire pans, stoves, or grills required); close to wood product sales and/or harvest; require porta-potties for overnight use if restroom is not available; no leasing of fluid minerals; NGD for non-fluid mineral activities.

• East Paradox ACEC, 7,360 acres, Alternative B: ROW exclusion; recommend for withdrawal from locatable mineral entry; close to mineral materials disposal; close to non-energy solid mineral leasing; VRM Class III; limit motorized and mechanized travel to designated routes; close to camping; close to coal leasing; NSO for fluid minerals; NGD for non-fluid mineral activities; provide adequate protection (signs, use stipulations, barricades and fences, as needed) to protect sensitive species and their habitats; on 1,810 acres limit all travel (motorized, mechanized, pedestrian and equestrian) to designated routes.

• Biological Soil Crust ACEC, 1,900 acres, Alternative D: ROW exclusion; close to mineral materials disposal; close to non-energy solid mineral leasing; recommend for withdrawal from locatable mineral entry; VRM Class II; locate livestock salt/mineral supplement sites and water sites farther than 0.25 mile from the boundary of the gypsipherous soils (allow existing livestock watering reservoirs closer than 0.25 mile from the gypsipherous soils to remain); limit motorized and mechanized travel to designated routes; manage for day use only; prohibit camping; NSO for fluid minerals; SSR for non-fluid mineral activities.

• La Sal Creek ACEC, 10,490 acres, Alternative B: ROW exclusion; recommend for withdrawal from locatable mineral entry; close to mineral materials disposal; close to non-energy solid mineral leasing; VRM Class II; limit motorized and mechanized travel to designated routes; allow camping only in designated sites and areas; provide facilities (e.g., informational and interpretive signs, designated trail systems, camping areas, restrooms, barricades and fences, as needed) for resource protection; NSO for fluid minerals; NGD for non-fluid mineral activities.

• Lower Uncompahgre Plateau ACEC, 31,810 acres, Alternative B: ROW exclusion; recommend for withdrawal from locatable mineral entry; close to mineral materials disposal; close to non-energy solid mineral leasing; VRM Class III; limit motorized and mechanized travel to designated routes; provide facilities (e.g., informational and interpretive signs, designated trail systems, camping areas, restrooms, barricades and fences, as needed) to provide resource protection; NSO for fluid minerals; NGD for non-fluid mineral activities.

• Paradox Rock Art ACEC, 1,080 acres, Alternatives B, D: ROW exclusion; recommend for withdrawal from locatable mineral entry; close to mineral materials disposal; close to non-energy solid mineral leasing; VRM Class II; limit motorized and mechanized travel to designated routes; provide facilities (e.g., informational and interpretive signs, designated trail systems and camping areas, and restrooms, as needed) for resource protection; provide adequate protection (signs, use stipulations, barricades and fences, as needed) to protect sites; allow camping only in designated sites and areas; prohibit target shooting; close to rock climbing; issue no Special Recreation Permits (SRP); NSO for fluid minerals; NGD for non-fluid mineral activities.

• Roubideau-Potter-Monitor ACEC, 20,430 acres, Alternative B: ROW exclusion; recommend for withdrawal from locatable mineral entry; close to mineral materials disposal; close to non-energy solid mineral leasing; VRM Class II; limit motorized and mechanized travel to designated routes; provide adequate protection (signs, use stipulations, barricades and fences, as needed) to protect sensitive species and their habitats; issue no SRP for competitive events; prohibit target shooting; close to wood product sales and/or harvest and Christmas tree cutting; close to recreational mining; close to fluid mineral leasing; NGD for non-fluid mineral activities.

• Roubideau Corridors ACEC, 8,720 acres, Alternative D: ROW avoidance; recommend for withdrawal from locatable mineral entry; close to mineral materials disposal; close to non-energy solid mineral leasing; VRM Class III; limit motorized and mechanized travel to designated routes; provide adequate protection (signs, use stipulations, barricades and fences, as needed) to protect sensitive species and their habitats; close to wood product sales and/or harvest and Christmas tree cutting; NSO for fluid minerals; SSR for non-fluid mineral activities.

• Salt Desert Shrub Ecosystem ACEC, 34,510 acres, Alternative B: ROW exclusion; recommend for withdrawal from locatable mineral entry; close to mineral materials disposal; close to non-energy solid mineral leasing; VRM Class III; limit motorized and mechanized travel to designated routes; provide such facilities as informational and interpretive signs, barricades and fences, as needed to protect resources; manage for day use only: Prohibit camping and open campfires (require use of stoves or grills); prohibit wood collecting; close to coal leasing; NSO for fluid minerals; NGD for non-fluid mineral activities.

• San Miguel Gunnison Sage-Grouse ACEC, 470 acres, Alternative B: ROW exclusion; recommend for withdrawal from locatable mineral entry; close to mineral materials disposal; close to non-energy solid mineral leasing; manage as VRM Class III; limit motorized and mechanized travel to designated routes; close to motorized and mechanized travel April 1 to July 15 (during sage-grouse strutting, nesting and brood-rearing season) to prevent disturbance to breeding sage-grouse; follow recommendations in San Miguel Basin Gunnison Sage-Grouse Conservation Plan (San Miguel Basin Gunnison Sage-Grouse Working Group 2009); manage vegetation for optimal Gunnison Sage-Grouse habitat; provide adequate protection (signs, use stipulations, barricades and fences, as needed) to protect sensitive species and their habitats; close to leasing for fluid minerals; NGD for non-fluid mineral activities.

• Sims-Cerro Gunnison Sage-Grouse ACEC, 25,620 acres, Alternative B: ROW exclusion; recommend for withdrawal from locatable mineral entry; close to mineral materials disposal; close to non-energy solid mineral leasing; VRM Class III; manage vegetation for optimal Gunnison Sage-Grouse habitat; limit motorized and mechanized travel to designated routes; close to motorized and mechanized travel April 1 to July 15 (during sage-grouse strutting, nesting and brood-rearing season); provide adequate protection (signs, use stipulations, barricades and fences, as needed) to protect sensitive species and their habitats; develop a Sims-Cerro Gunnison Sage-Grouse Conservation Plan; close to leasing for fluid minerals; NGD for non-fluid mineral activities.

• Tabeguache Pueblos and Tabeguache Caves ACEC, 26,400 acres, Alternative B: ROW exclusion; recommend for withdrawal from locatable mineral entry; close to mineral materials disposal; close to non-energy solid mineral leasing; VRM Class I (5,260 acres),VRM Class II (21,140 acres); limit motorized and mechanized travel to designated routes; provide adequate protection (signs, use stipulations, barricades and fences, as needed) to protect sensitive sites; NSO for fluid minerals; NGD for non-fluid mineral activities.

• Tabeguache Creek ACEC, 560 acres, Alternative A: VRM Class II; close to Off-Road Vehicle use; NSO for fluid minerals.

• West Paradox ACEC, 5,190 acres, Alternative B: ROW exclusion; recommend for withdrawal from locatable mineral entry; close to mineral materials disposal; close to non-energy solid mineral leasing; VRM Class III; limit motorized and mechanized travel to designated routes; close to rock climbing during peregrine falcon breeding season (March 1 to August 15) if birds are present; provide facilities (e.g., informational and interpretive signs, designated trail systems, camping areas and restrooms, as needed) for resource protection; provide adequate protection (signs, use stipulations, barricades and fences, as needed) to protect sensitive species and their habitats; allow camping only in designated sites and areas; NSO for fluid minerals; NGD for non-fluid mineral activities.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2, 43 CFR 1610.5.

Ruth Welch,
BLM Colorado State Director.

[FR Doc. 2016-13131 Filed 6-2-16; 8:45 am]

BILLING CODE 4310-JB-P